FEDERAL MARITIME COMMISSION

Ocean Transportation Intermediary License Revocations

The Commission gives notice that the following Ocean Transportation Intermediary licenses have been revoked pursuant to section 19 of the Shipping Act of 1984 (46 U.S.C. 40101) effective on the date shown.

License No.: 013253N.

Name: Total Service Line Corporation dba Total Shipping Line Corp.

Address: 12140 East Artestia Blvd., Suite 208, Artesia, CA 90701.

Date Revoked: November 11, 2012.

Reason: Failed to maintain a valid bond.

License No.: 017580N.

Name: E-Trans Logistic Services, Inc.

Address: 17595 Almahurst Road, Suite 211, City of Industry, CA 91748.

Date Revoked: November 18, 2012.

Reason: Failed to maintain a valid bond.

License No.: 020933N.

Name: Surexpress, Inc.

Address: 7040 Motz Street, Paramount, CA 90723.

Date Revoked: November 5, 2012.

Reason: Voluntary Surrender of License.

License No.: 021296NF.

Name: ITW International, Inc.

Address: 2889 Plaza Del Amo, #312, Torrance, CA 90503.

Date Revoked: November 5, 2012.

Reason: Voluntary Surrender of License.

Vern W. Hill,
Director, Bureau of Certification and Licensing.

[FR Doc. 2013-00832 Filed 1-15-13; 8:45 am]

BILLING CODE 6730-01-P